ENVIRONMENTAL PROTECTION AGENCY

[EPA-R05-OAR-2007-0156; FRL-8334-7]

Approval of Clean Air Act Section 112(l) Delegations for National Emission Standards for Hazardous Air Pollutants Subparts II, CCC, MMMM, PPPP, and DDDDD; Indiana

AGENCY: Environmental Protection Agency (EPA).

ACTION: Notice.

SUMMARY: EPA is notifying the public that delegation of the authority to implement and enforce the National Emission Standards for Hazardous Air Pollutants (NESHAP) standards for Shipbuilding and Ship Repair Surface Coating (Subpart II), Steel Pickling—Hydrochloric Acid Process Facilities and Regeneration Plants (Subpart CCC), Surface Coating of Miscellaneous Metal Parts and Products (Subpart MMMM), Surface Coating of Plastic Parts and Products (Subpart PPPP), and Industrial, Commercial, and Institutional Boilers and Process Heaters (DDDDD) was approved in a letter from EPA to the Indiana Department of Environmental Management (IDEM) dated May 30, 2007.

FOR FURTHER INFORMATION CONTACT: Ethan Chatfield, Environmental Engineer, Air Permits Section, Air Programs Branch (AR-18J), Environmental Protection Agency, Region 5, 77 West Jackson Boulevard, Chicago, Illinois 60604, (312) 886-5112, chatfield.ethan@epa.gov.

SUPPLEMENTARY INFORMATION: Throughout this document whenever “we,” “us,” or “our” is used, we mean EPA. This supplementary information section is arranged as follows:

I. What Action Is EPA Taking?

II. Under What Authority Is EPA Approving These Delegations?

III. What Is the Effect of These Delegations?

IV. How Can I Get Copies of This Document and Other Related Information?

I. What Action Is EPA Taking?

We are notifying the public that pursuant to section 112(1) of the Clean Air Act (CAA) and 40 CFR 63.92, EPA has approved the IDEM request to delegate the authority to implement and enforce 40 CFR part 63, subparts II, CCC, MMMM, PPPP, and DDDDD. IDEM has incorporated these NESHAPs by reference, unchanged from the federal standards, through Indiana rules 326 IAC 20-26, 326 IAC 20-29, 326 IAC 20-80, 326 IAC 20-81, and 326 IAC 20-95, respectively. EPA has also approved the delegation of the Category I authorities for these NESHAP standards as set forth at 40 CFR 63.91(g).

II. Under What Authority Is EPA Approving These Delegations?

Pursuant to section 112(1) of the CAA, a state may develop and submit to EPA for approval a program for the partial or complete delegation of section 112 rules. EPA may approve state rules or programs which either: (1) Implement and enforce section 112 rules as promulgated by EPA (“straight delegation”); (2) implement and enforce state rules which adjust section 112 rules; or, (3) implement and enforce state rules which substitute for section 112 rules. The Federal regulations governing EPA's approval of state rules or programs under section 112(1) are located at 40 CFR part 63, subpart E.

Currently, IDEM has an EPA-approved program for the straight delegation of NESHAP standards. EPA approved IDEM's program for part 70 and non-part 70 sources on November 14, 1995, (60 FR 57118) and July 8, 1997 (62 FR 36460), respectively. Pursuant to the approved delegation program, EPA has approved the straight delegation of numerous NESHAP standards in Indiana (see 62 FR 36460 (7/8/1997), 65 FR 17264 (3/31/2000), 69 FR 22508 (4/26/2004), and 71 FR 2225 (1/13/2006)). EPA has also approved rule adjusted NESHAP delegations for subparts X, VVVV, WWWW (see 71 FR 48923 (8/22/2006) and 71 FR 56971 (9/28/2006)).

By letter dated February 8, 2007, IDEM requested approval of five additional ‘straight delegations’ of authority for 40 CFR part 63, subparts II, CCC, MMMM, PPPP, and DDDDD.

III. What Is the Effect of These Delegations?

On May 30, 2007, EPA approved IDEM's request to delegate the authority to implement and enforce 40 CFR part 63, subparts II, CCC, MMMM, PPPP, and DDDDD, through 326 IAC 20-26, 326 IAC 20-29, 326 IAC 20-80, 326 IAC 20-81, and 326 IAC 20-95. EPA also approved the delegation of the applicable Category I authorities as set forth at 40 CFR section 63.91(g).

All notifications, reports and other correspondence required under these NESHAPs, should be sent to the State of Indiana, rather than to the EPA, Region 5, in Chicago. Affected sources should send this information to: Indiana Department of Environmental Management, Office of Air Quality, 100 North Senate Avenue, Indianapolis, Indiana 46204-2251.

Pursuant to Section 112(1)(7) of the CAA, nothing in this delegation prohibits EPA from enforcing any applicable emission standard or requirement.

IV. How Can I Get Copies of This Document and Other Related Information?

Docket. EPA has established a docket for this action under Docket ID No. EPA-R05-OAR-2007-0156. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Ethan Chatfield, Environmental Engineer, at (312) 886-5112 before visiting the Region 5 office.

Electronic Access. You may access this Federal Register document electronically through the EPA Internet under the “Federal Register” listings at http://www.epa.gov/fedrgstr/.

Authority: 42 U.S.C. 7401 et seq.

Dated: June 19, 2007.
Bharat Mathur,
Acting Regional Administrator, Region 5.

[FR Doc. E7-12851 Filed 7-3-07; 8:45 am]

BILLING CODE 6560-50-P